DEPARTMENT OF ENERGY

Federal Energy Regulatory Commission

[Project No. 13400-000]

Massachusetts Water Resources Authority; Notice of Conduit Exemption Application Accepted for Filing and Soliciting Comment, Motions To Intervene, and Competing Applications

April 14, 2009.

On March 17, 2009, Massachusetts Water Resources Authority, filed an application pursuant to 16 U.S.C. 791a-825r of the Federal Power Act, for conduit exemption of the Loring Road Hydroelectric Project, to be located in Valve Chamber One at Massachusetts Water Resources Authority's Loring Road facility in Middlesex County, Massachusetts.

The proposed Loring Road Hydroelectric Project consists of: (1) A proposed powerhouse containing one generating unit having an installed capacity of 200 kilowatts, and (2) appurtenant facilities. The Massachusetts Water Resources Authority estimates the project would have an average annual generation of 1,207 megawatt-hours that would be used on-site with any excess being sold to a local utility.

Applicant Contact: Ms. Pamela A. Heidell, Policy and Planning Manager, Massachusetts Water Resources Authority, Charlestown Navy Yard, Building 39, 100 First Avenue, Boston, MA 85326, (617) 788-1102. Pamela.Heidell@mwra.state.ma.us.

FERC Contact: Jeremy Jessup, (202) 502-6779. Jeremy.Jessup@ferc.gov.

Deadline for filing comments, motions to intervene, protests, recommendations, terms and conditions, prescriptions, competing applications (without notices of intent), or notices of intent to file competing applications: 60 days from the issuance of this notice. All filings may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13400) in the docket number field to access the document. For assistance, call toll-free 1-866-208-3372.

Kimberly D. Bose,
Secretary.

[FR Doc. E9-9080 Filed 4-20-09; 8:45 am]

BILLING CODE 6717-01-P